NUCLEAR REGULATORY COMMISSION

Biweekly Notice; Applications and Amendments to Facility Operating Licenses; Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from June 19, 2008 to July 2, 2008. The last biweekly notice was published on July 1, 2008 (73 FR 370501).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms ViewerTMis free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Energy Northwest, Docket No. 50-397, Columbia Generating Station, Benton County, Washington

Date of amendment request: May 7, 2008.

Description of amendment request: The proposed changes would revise Technical Specification (TS) Limiting Condition for Operation (LCO) 3.10.1, and the associated Bases, to expand its scope to include provisions for temperature excursions greater than 200 degrees F as a consequence of inservice leak and hydrostatic testing, and as a consequence of scram time testing initiated in conjunction with an inservice leak or hydrostatic test, while considering operational conditions to be in Mode 4.

The U.S Nuclear Regulatory Commission (NRC) issued a “Notice of Availability of Model Safety Evaluation on Technical Specification Improvement To Modify Requirements Regarding LCO 3.10.1, Inservice Leak and Hydrostatic Testing Operation Using the Consolidated Line Item Improvement Process” in the Federal Register on October 27, 2006 (71 FR 63050). The notice referenced a model safety evaluation, a model no significant hazards consideration (NSHC) determination, and a model license amendment request published in the Federal Register on August 21, 2006 (71 FR 48561). In its application dated May 7, 2008, the licensee affirmed the applicability of the model NSHC determination which is presented below.

Basis for proposed no significant hazards consideration determination: As required by 10 CFR 50.91(a), an analysis of the issue of NSHC adopted by the licensee is presented below:

Criterion 1: The proposed change does not involve a significant increase in the probability or consequences of an accident previously evaluated.

Technical Specifications currently allow for operation at greater than 200 degrees F while imposing MODE 4 requirements in addition to the secondary containment requirements required to be met. Extending the activities that can apply this allowance will not adversely impact the probability or consequences of an accident previously evaluated. Therefore, the proposed change does not involve a significant increase in the probability or consequences of an accident previously evaluated.

Criterion 2: The proposed change does not create the possibility of a new or different kind of accident from any accident previously evaluated.

Technical Specifications currently allow for operation at greater than 200 degrees F while imposing MODE 4 requirements in addition to the secondary containment requirements required to be met. No new operational conditions beyond those currently allowed by LCO 3.10.1 are introduced. The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice. Therefore, the proposed change does not create the possibility of a new or different kind of accident from any accident previously evaluated.

Criterion 3: The proposed change does not involve a significant reduction in a margin of safety.

Technical Specifications currently allow for operation at greater than 200 degrees F while imposing MODE 4 requirements in addition to the secondary containment requirements required to be met. Extending the activities that can apply this allowance will not adversely impact any margin of safety. Allowing completion of inspections and testing and supporting completion of scram time testing initiated in conjunction with an inservice leak or hydrostatic test prior to power operation results in enhanced safe operations by eliminating unnecessary maneuvers to control reactor temperature and pressure. Therefore, the proposed change does not involve a significant reduction in a margin of safety.

The NRC staff has reviewed the analysis adopted by the licensee and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Thomas G. Hiltz.

PSEG Nuclear LLC, Docket Nos. 50-272 and 50-311, Salem Nuclear Generating Station, Unit Nos. 1 and 2, Salem County, New Jersey

Date of amendment request: March 11, 2008, as supplemented on June 17, 2008.

Description of amendment request: The proposed amendment would revise the requirements for fuel decay time prior to commencing movement of irradiated fuel in the reactor pressure vessel (RPV). Currently, Technical Specification (TS) 3/4.9.3, “Decay Time,” requires that: (a) the reactor has been subcritical for at least 100 hours prior to movement of irradiated fuel in the RPV between October 15th through May 15th; and (b) the reactor has been subcritical for at least 168 hours prior to movement of irradiated fuel in the RPV between May 16th and October 14th. The calendar approach is based on average river water temperature which is cooler in the fall through spring months. The proposed amendment would allow fuel movement to commence at 80 hours after the reactor is subcritical between October 15th through May 15th.

Basis for proposed no significant hazards consideration determination: As required by 10 CFR 50.91(a), the licensee, in its letter dated June 17, 2008, has provided its analysis of the issue of no significant hazards consideration, which is presented below:

1. Does the change involve a significant increase in the probability [ ] or consequences of an accident previously evaluated?

Response: No.

The proposed license amendment would allow fuel assemblies to be removed from the reactor core and be stored in the Spent Fuel Pool (SFP) in less time after subcriticality than currently allowed by the Technical Specifications. Decreasing the decay time of the fuel affects the radionuclide make-up of the fuel to be offloaded as well as the amount of decay heat that is present from the fuel at the time of offload. The accident previously evaluated that is associated with the proposed license amendment is the fuel handling accident. Allowing the fuel to be offloaded in less time after subcriticality using actual heat loads does not impact the manner in which the fuel is offloaded. The accident initiator is the dropping of the fuel assembly. Since earlier offload does not affect fuel handling, there is no increase in the probability of occurrence of a Fuel Handling Accident (FHA). The time frame in which the fuel assemblies are moved has been evaluated against the 10 CFR 50.67 dose limits for members of the public, licensee personnel and control room. Additionally, the guidance provided in [Regulatory] Guide 1.183 was used for the selective application of Alternative Source Term. All dose limits are met with the reduced core offload times; and significant margin is maintained, as the minimum decay time prior to movement of fuel for the FHA analysis is 24 hours.

Therefore, the proposed license amendment does not significantly increase the probability [ ] or the consequences of accidents previously evaluated.

2. [Does the change] [c]reate the possibility of a new or different kind of accident from any accident previously evaluated[?]

Response: No.

The proposed license amendment would allow core offload to occur in less time after subcriticality which affects the radionuclide makeup of the fuel to be offloaded as well as the amount of decay heat that is present from the fuel at the time of offload. The radionuclide makeup of the fuel assemblies and the amount of decay heat produced by the fuel assemblies do not currently initiate any accident. A change in the radionuclide makeup of the fuel at the time of core offload or an increase in the decay heat produced by the fuel being offloaded will not cause the initiation of any accident. The accident previously evaluated that is associated with fuel movement is the fuel handling accident; no new accidents are introduced. There is no change to the manner in which fuel is being handled or in the equipment used to offload or store the fuel. The effects of the additional decay heat load have been analyzed. The analysis demonstrates that the existing Spent Fuel Pool cooling system and associated systems under worst-case circumstances would maintain licensing limits and the integrity of the Spent Fuel Pool.

Therefore, the proposed license amendment does not create the possibility of a new or different kind of accident from any accident previously evaluated.

3. Does the change involve a significant reduction in a margin of safety?

Response: No.

The margin of safety pertinent to the proposed changes is the dose consequences resulting from a fuel handling accident. The shorter decay time prior to fuel movement has been evaluated against 10 CFR 50.67 and all limits continue to be met. All dose limits are met with the reduced core offload times; and significant margin is maintained, as the minimum decay time prior to movement of fuel for the FHA analysis is 24 hours. Decay heat-up calculations performed prior to the refueling outage, as part of the Integrated Decay Heat Management (IDHM) Program, ensure that planned spent fuel transfer to the SFP will not result in maximum SFP temperature exceeding the design basis limit of 149 °F (with both heat exchangers available) or 180 °F (with one heat exchanger alternating between the two pools). As stated above, the changes in radionuclide makeup and additional heat load do not impact any safety settings and do not cause any safety limit to not be met. In addition, the integrity of the Spent Fuel Pool is maintained.

The time frame in which the fuel assemblies are moved has been evaluated against the 10 CFR 50.67 dose limits for members of the public, licensee personnel and control room. Additionally, the guidance provided in [Regulatory] Guide 1.183 was used. Calculations performed conclude that expected dose limits following a Fuel [H]andling Accident are met with the proposed decay time prior to commencing fuel movement.

Therefore, the proposed changes do not involve a significant reduction in a margin of safety.

The NRC staff has reviewed the licensee's analysis and, based on this review, with changes in the areas noted above, it appears that the three standards of 10 CFR 50.92(c) are satisfied. Therefore, the NRC staff proposes to determine that the amendment request involves no significant hazards consideration.

Attorney for licensee: Jeffrie J. Keenan, Esquire, Nuclear Business Unit—N21, P.O. Box 236, Hancocks Bridge, NJ 08038.

NRC Branch Chief: Harold K. Chernoff.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket Nos. 50-352 and 50-353, Limerick Generating Station, Units 1 and 2, Montgomery County, Pennsylvania

Date of amendment request: August 24, 2007, supplemented by letter dated June 11, 2008.

Description of amendment request: The proposed amendment would increase the required minimum volume of fuel oil in the emergency diesel generator (EDG) day tanks from 200 gallons to 250 gallons, enough for 1 hour of continuous operation of the associated EDG at rated load. This change is necessitated by a revision to the Limerick Generating Station design analysis of EDG fuel consumption that accounts for parameters not considered in the original analysis, including the use of ultra-low sulphur diesel fuel oil.

Date of publication of individual notice in Federal Register: June 20, 2008 (73 FR 35168).

Expiration date of individual notice: July 20, 2008 (Public comment) and August 19, 2008 (Hearing requests).

FirstEnergy Nuclear Operating Company, Docket No. 50-346, Davis-Besse Nuclear Power Station, Unit No. 1, Ottawa County, Ohio

Date of amendment request: August 3, 2007.

Brief description of amendment request: The proposed amendment would represent a full conversion from the current technical specifications to a set of improved technical specifications based on NUREG-1430, “Standard Technical Specifications Babcock and Wilcox Plants,” Revision 3.1 dated December 2005 and certain generic changes to the NUREG.

Date of publication of individual notice in Federal Register: May 22, 2008.

Expiration date of individual notice: July 22, 2008.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Detroit Edison Company, Docket No. 50-341, Fermi 2, Monroe County, Michigan

Date of application for amendment: January 15, 2008.

Brief description of amendment: The amendment revises the Technical Specifications (TS) Surveillance Requirement frequency in TS 3.1.3, “Control Rod OPERABILITY” from “7 days after the control rod is withdrawn and THERMAL POWER is greater than the [Low Power Setpoint] LPSP of [Rod Worth Minimizer] RWM” to “31 days after the control rod is withdrawn and THERMAL POWER is greater than the LPSP of the RWM” and revises Example 1.4-3 in section 1.4 “Frequency” to clarify the applicability of the 1.25 surveillance test interval extension.

Date of issuance: June 23, 2008.

Effective date: As of the date of issuance and shall be implemented within 60 days.

Amendment No.: 179.

Facility Operating License No. NPF-43: Amendment revised the Technical Specifications and License.

Date of initial notice in Federal Register: February 26, 2008 (73 FR 10296) The Commission's related evaluation of the amendment is contained in a Safety Evaluation dated June 23, 2008.

No significant hazards consideration comments received: No.

Detroit Edison Company, Docket No. 50-341, Fermi 2, Monroe County, Michigan

Date of application for amendment: July 12, 2007, as supplemented by letter dated September 21, 2007.

Brief description of amendment: The amendment revises Surveillance Requirement 3.3.3.1.2 in Technical Specification 3.3.3.1, “Post Accident Monitoring (PAM) Instrumentation.” Specifically, the amendment deletes the note which excludes radiation detectors from calibration requirements.

Date of issuance: June 25, 2008.

Effective date: As of the date of issuance and shall be implemented within 60 days.

Amendment No.: 180.

Facility Operating License No. NPF-43: Amendment revised the Technical Specifications and License.

Date of initial notice in Federal Register: November 6, 2007 (72 FR 62687) The supplemental letter was considered, along with the application, in the Federal Register notice of the staff's proposed no significant hazards consideration determination.

The Commission's related evaluation of the amendment is contained in a Safety Evaluation dated June 25, 2008.

No significant hazards consideration comments received: No.

Entergy Nuclear Vermont Yankee, LLC and Entergy Nuclear Operations, Inc., Docket No. 50-271, Vermont Yankee Nuclear Power Station, Vernon, Vermont

Date of application for amendment: October 18, 2007.

Brief description of amendment: The amendment revised the Technical Specifications applicability requirements related to primary containment oxygen concentration and drywell-to-suppression chamber differential pressure limits. The associated actions would also be revised to be consistent with exiting the applicability for each specification.

Date of Issuance: June 23, 2008.

Effective date: As of the date of issuance, and shall be implemented within 60 days.

Amendment No.: 232.

Facility Operating License No. DPR-28: Amendment revised the License and Technical Specifications.

Date of initial notice in Federal Register: December 18, 2007 (72 FR 71712).

The Commission's related evaluation of this amendment is contained in a Safety Evaluation dated June 23, 2008.

No significant hazards consideration comments received: No.

Exelon Generation Company, LLC, Docket Nos. STN 50-456 and STN 50-457, Braidwood Station (Braidwood), Units 1 and 2, Will County, Illinois

Docket Nos. STN 50-454 and STN 50-455, Byron Station (Byron), Unit Nos. 1 and 2, Ogle County, Illinois.

Date of application for amendment: July 31, 2007.

Brief description of amendment: The amendments revise Technical Specification 5.5.2, “Primary Coolant Sources Outside Containment,” to clarify the intent of refueling cycle intervals (i.e., 18 month intervals) with respect to system integrated leak test requirements and to add a statement that the provisions of Surveillance Requirement 3.0.2 are applicable.

Date of issuance: June 18, 2008.

Effective date: As of the date of issuance and shall be implemented within 30 days.

Amendment Nos.: Braidwood Unit 1—151; Braidwood Unit 2-151; Byron Unit No. 1-155; and Byron Unit No. 2-155.

Facility Operating License Nos. NPF-72, NPF-77, NPF-37, and NPF-66: The amendment revised the Technical Specifications and Licenses.

Date of initial notice in Federal Register: September 11, 2007 (72 FR 51859).

The Commission's related evaluation of the amendments is contained in a Safety Evaluation dated June 18, 2008.

No significant hazards consideration comments received: No.

FirstEnergy Nuclear Operating Company, et al., Docket No. 50-346, Davis-Besse Nuclear Power Station, Unit No. 1, Ottawa County, Ohio

Date of application for amendment: April 12, 2007, as supplemented on September 18, October 8, and October 19, 2007, January 15 (2 letters), February 14, February 20, March 12, and May 16, 2008.

Brief description of amendment: This amendment increases the Rated Thermal Power by approximately 1.63 percent to 2817 megawatts thermal. This increase will be achieved by the use of a Caldon Leading Edge Flowmeter CheckPlus™ ultrasonic flow measurement system, which allows for more accurate measurement of feedwater flow.

Date of issuance: June 30, 2008.

Effective date: As of the date of issuance and shall be implemented within 120 days.

Amendment No.: 278.

Facility Operating License No. NPF-3: Amendment revised the Technical Specifications and License.

Date of initial notice in Federal Register: September 11, 2007 (72 FR 51861). The supplements dated September 18, October 8, and October 19, 2007, January 15 (2 letters), February 14, February 20, March 12, and May 16, 2008, contained clarifying information and did not change the NRC staff's initial proposed finding of no significant hazards consideration. The Commission's related evaluation of the amendment is contained in a Safety Evaluation dated June 30, 2008.

No significant hazards consideration comments received: No.

FirstEnergy Nuclear Operating Company, et al., Docket No. 50-440, Perry Nuclear Power Plant, Unit No. 1, Lake County, Ohio

Date of application for amendment: September 5, 2007 (Agencywide Document and Management System (ADAMS) Accession No. ML072550547).

Brief description of amendment: The proposed amendment would revise Technical Specifications (TSs) 3.6.1, 3.6.4, and 3.6.5 to relax the position verification requirements for primary containments isolation devices, secondary containment isolation devices, and drywell isolation devices that are locked, sealed, or otherwise secured. These changes are based on TS Task Force (TSTF) change traveler TSTF-45, Revision 2, and TSTF-269, Revision 2, which have been approved generically for the Boiling-Water Reactor (BWR) Standard Technical Specifications, NUREG-1434 (BWR/6).

Date of issuance: June 19, 2008.

Effective date: As of the date of issuance and shall be implemented within 120 days.

Amendment No.: 149.

Facility Operating License No. NPF-58: This amendment revised the Technical Specifications and License.

Date of initial notice in Federal Register: January 29, 2008 (73 FR 5221).

The Commission's related evaluation of the amendment is contained in a Safety Evaluation dated June 19, 2008.

No significant hazards consideration comments received: No.

FPL Energy Duane Arnold, LLC, Docket No. 50-331, Duane Arnold Energy Center, Linn County, Iowa

Date of application for amendment: June 29, 2007.

Brief description of amendment: This amendment changes Technical Specifications (TS) sections 3.7.4 and 5.5.13, to strengthen TS requirements regarding control room envelope (CRE) habitability by changing the action and surveillance requirements associated with the limiting condition for operation operability requirements for the CRE emergency ventilation system, and by adding a new TS administrative controls program on CRE habitability. The proposed revision to the TS and associated Bases is consistent with Standard Technical Specifications (STS) as revised by STS change traveler TS Task Force (TSTF)-448, Revision 3, “Control Room Envelope Habitability.” The plant-specific name for the CRE at Duane Arnold Energy Center is Control Building Envelope, as expressed in its application for amendment.

Date of issuance: June 24, 2008.

Effective date: As of the date of issuance and shall be implemented within 180 days.

Amendment No.: 269.

Facility Operating License No. DPR-49: The amendment revised the Technical Specifications and Facility Operating License.

Date of initial notice in Federal Register: September 25, 2007 (72 FR 54474).

The Commission's related evaluation of the amendment is contained in a Safety Evaluation dated June 24, 2008.

No significant hazards consideration comments received: No.

Luminant Generation Company LLC, Docket Nos. 50-445 and 50-446, Comanche Peak Steam Electric Station, Unit Nos. 1 and 2, Somervell County, Texas

Date of amendment request: August 28, 2007, as supplemented by letters dated October 24, November 7, and December 3, 2007, January 10, 29, and 31, February 21, 26, and 28, March 6, April 17, and May 14, 2008.

Brief description of amendments: The amendments revised the operating license and Technical Specification (TS) 1.0, “Use and Application,” to revise the rated thermal power from 3458 megawatts thermal (MWt) to 3612 MWt.

Date of issuance: June 27, 2008.

Effective date: As of the date of issuance and shall be implemented within 180 days from the date of issuance.

Amendment Nos.: Unit 1—146; Unit 2—146.

Facility Operating License Nos. NPF-87 and NPF-89: The amendments revised the Facility Operating Licenses and Technical Specifications.

Date of initial notice in Federal Register: October 23, 2007 (72 FR 60034). The supplements dated October 24, November 7, and December 3, 2007, January 10, 29, and 31, February 21, 26, and 28, March 6, April 17, and May 14, 2008, provided additional information that clarified the application, did not expand the scope of the application as originally noticed, and did not change the staff's original proposed no significant hazards consideration determination as published in the Federal Register on October 23, 2007 (72 FR 60034).

The Commission's related evaluation of the amendments is contained in a Safety Evaluation dated June 27, 2008.

No significant hazards consideration comments received: No.

Nebraska Public Power District, Docket No. 50-298, Cooper Nuclear Station, Nemaha County, Nebraska

Date of amendment request: November 19, 2007, as supplemented by letters dated March 6, March 12, April 4, and May 9, 2008.

Brief description of amendment: The amendment revises the license and Technical Specifications to reflect an increase in the rated thermal power from 2381 to 2419 megawatts thermal (1.62 percent increase).

Date of issuance: June 30, 2008.

Effective date: As of the date of issuance and shall be implemented within 90 days of issuance.

Amendment No.: 231.

Facility Operating License No. DPR-46: Amendment revised the Facility Operating License and Technical Specifications.

Date of initial notice in Federal Register: January 29, 2008 (73 FR 5224). The supplements dated March 6, March 12, April 4, and May 9, 2008, provided additional information that clarified the application, did not expand the scope of the application as originally noticed, and did not change the staff's original proposed no significant hazards consideration determination as published in the Federal Register.

The Commission's related evaluation of the amendment is contained in a Safety Evaluation dated June 30, 2008.

No significant hazards consideration comments received: No.

Nuclear Management Company, LLC, Docket Nos. 50-282 and 50-306, Prairie Island Nuclear Generating Plant, Units 1 and 2, Goodhue County, Minnesota

Date of application for amendments: July 3, 2007.

Brief description of amendments: The amendments revise TS 1.4, “Frequency” to modify the second paragraph of Example 1.4-1 to be consistent with the requirements of Surveillance Requirement (SR) 3.0.4 and incorporate the changes in Technical Specification Task Force (TSTF) industry traveler TSTF-485, “Correct Example 1.4-1”; revise TS 5.5.7.a, to modify references to Section XI of the American Society of Mechanical Engineers (ASME) Code with references to the ASME Code for Operation and Maintenance of Nuclear Power Plants (ASME OM Code), to be consistent with TSTF-479, “Changes to Reflect Revision of 10 CFR [Code of Federal Regulations] 50.55a”; revise TS 5.5.7.b, to restrict extension of Frequencies to those Frequencies specified as 2 years or less, and take exception to the limitation in SR 3.0.2 which does not apply the 1.25 times extension to Frequencies of 24 months, to be consistent with TSTF-479 and TSTF-497, “Limit Inservice Testing Program SR 3.0.2 Application to Frequencies of 2 Years or Less”; and revise TS 5.5.7.d, to modify the referenced ASME Code to be consistent with TSTF-479.

Date of issuance: June 27, 2008.

Effective date: As of the date of issuance and shall be implemented within 90 days.

Amendment Nos.: 185, 175.

Facility Operating License Nos. DPR-42 and DPR-60: Amendments revised the Technical Specifications.

Date of initial notice in Federal Register: August 28, 2007 (72 FR 49579).

The Commission's related evaluation of the amendments is contained in a Safety Evaluation dated June 27, 2008.

No significant hazards consideration comments received: No.

Omaha Public Power District, Docket No. 50-285, Fort Calhoun Station, Unit No. 1, Washington County, Nebraska

Date of amendment request: May 16, 2007.

Brief description of amendment: The amendment revised Technical Specification requirements related to the control room envelope habitability in accordance with Technical Specification Task Force (TSTF) Traveler TSTF-448-A, Revision 3, “Control Room Habitability.”

Date of issuance: June 30, 2008.

Effective date: As of the date of issuance and shall be implemented within 270 days of the date of issuance.

Amendment No.: 257.

Renewed Facility Operating License No. DPR-40: The amendment revised the Technical Specifications.

Date of initial notice in Federal Register: June 19, 2007 (72 FR 33784).

The Commission's related evaluation of the amendment is contained in a safety evaluation dated June 30, 2008.

No significant hazards consideration comments received: No.

Pacific Gas and Electric Company, Docket No. 50-133, Humboldt Bay Power Plant, Unit 3, Humboldt County, California (Tac No. J00337)

Date of application for amendment: November 5, 2007.

Brief description of amendment: The amendment eliminates the security plan requirements from the 10 CFR Part 50 licensed site after the spent nuclear fuel has been transferred to the 10 CFR Part 72 licensed Independent Spent Fuel Storage Installation (ISFSI).

Date of issuance: June 16, 2008.

Effective date: As of the date that the transfer of the last of the spent nuclear fuel to the ISFSI is complete and shall be implemented within 60 days after the transfer.

Amendment No.: 43.

Facility Operating License No. DPR-7: This amendment revises the License.

Date of initial notice in Federal Register: February 12, 2008 (73 FR 8071).

The Commission's related evaluation of the amendment is contained in a Safety Evaluation dated June 16, 2008.

No significant hazards consideration comments received: No.

Southern Nuclear Operating Company, Inc., Docket Nos. 50-348 and 50-364, Joseph M. Farley Nuclear Plant, Units 1 and 2, Houston County, Alabama

Date of amendment request: June 5, 2007.

Brief description of amendment request: The amendment revises the Joseph M. Farley Nuclear Plant, Units 1 and 2 Technical Specifications (TS) to add a new TS to address the operation of Engineered Safety Feature (ESF) Room Coolers required to support ESF TS equipment.

Date of issuance: June 27, 2008.

Effective date: As of the date of issuance and shall be implemented within 60 days from the date of issuance.

Amendment Nos.: Unit 1—176, Unit 2—169.

Renewed Facility Operating License Nos. NPF-2 and NPF-8: Amendment revised the Technical Specifications and Licenses.

Date of initial notice in Federal Register: September 25, 2007 (72 FR 54480).

The Commission's related evaluation of the amendments is contained in a Safety Evaluation dated June 27, 2008.

No significant hazards consideration comments received: No.

STP Nuclear Operating Company, Docket Nos. 50-498 and 50-499, South Texas Project, Units 1 and 2, Matagorda County, Texas

Date of amendment request: November 8, 2007.

Brief description of amendments: The amendments modified Technical Specifications (TS) surveillance requirements, related to battery testing, by revising TS 3/4.8.2.1, “DC [Direct Current] Sources—Operating,” TS 3/4.8.2.2, “DC Sources—Shutdown,” and TS 3/4.8.2.3, “Battery Parameters.” The changes allow battery testing to be performed during any MODE of operation.

Date of issuance: June 30, 2008.

Effective date: As of the date of issuance and shall be implemented within 60 days of issuance.

Amendment Nos.: Unit 1—184; Unit 2—171.

Facility Operating License Nos. NPF-76 and NPF-80: The amendments revised the Facility Operating Licenses and Technical Specifications.

Date of initial notice in Federal Register: February 12, 2008 (73 FR 8072).

The Commission's related evaluation of the amendments is contained in a Safety Evaluation dated June 30, 2008.

No significant hazards consideration comments received: No.

Tennessee Valley Authority, Docket No. 50 390, Watts Bar Nuclear Plant, Unit 1, Rhea County, Tennessee

Date of application for amendment: June 8, 2007, as supplemented on December 26, 2007, and March 31, 2008.

Brief description of amendment: The amendment revises several Technical Specification (TS) sections to allow relaxations of various Reactor Trip System/Engineered Safety Feature (RTS/ESF) logic completion times, bypass test times, allowable outage times, and surveillance testing intervals that were previously reviewed and approved by NRC under Westinghouse Reports WCAP-14333-P-A, “Probabilistic Risk Analysis of RPS [reactor protection system] and ESFAS [ESF Actuation System] Test Times and Completion Times,” and WCAP-15376-P-A, “Risk-Informed Assessment of the RTS and ESFAS Surveillance Test Intervals and Reactor Trip Breaker Test and Completion Times.” The amendment also incorporates TS Task Force (TSTF) Change Travelers TSTF-169, “Deletion of Condition 3.3.1.N,” and TSTF-311, “Revision of Surveillance Frequency for TADOT [Trip Actuation Device Operational Test] on Turbine Trip Functional Unit.”

Date of issuance: June 30, 2008.

Effective date: As of the date of issuance and shall be implemented within 120 days of issuance.

Amendment No.: 68.

Facility Operating License No. NPF-90: Amendment revises the Technical Specifications and License.

Date of initial notice in Federal Register: July 31, 2007 (72 FR 41789). The December 26, 2007, and March 31, 2008, supplemental letters provided clarifying information that was within the scope of the initial notice and did not change the initial proposed no significant hazards consideration determination.

The Commission's related evaluation of the amendment is contained in a Safety Evaluation dated June 30, 2008.

No significant hazards consideration comments received: No.

Virginia Electric and Power Company, Docket No. 50-339, North Anna Power Station, Unit 2, Louisa County, Virginia

Date of application for amendment: December 5, 2007, as supplemented on March 14, April 3, and April 23, 2008.

Brief description of amendment: The amendment revised Technical Specification (TS) 5.5.15, pertaining to the containment leakage rate testing program. The TS change permitted a one-time 5-year exception to the 10-year frequency of the performance based leakage rate testing program for Type A tests, as required by Regulatory Guide (RG) 1.163. This one time exception to the RG 1.163 requirement allows the next Type A test to be performed no later than October 9, 2014.

Date of issuance: June 30, 2008.

Effective date: As of the date of issuance and shall be implemented within 30 days from the date of issuance.

Amendment No.: 233.

Renewed Facility Operating License Nos. NPF-4 and NPF-7: Amendment changed the license and the technical specifications.

Date of initial notice in Federal Register: January 15, 2008 (73 FR 2550).

The supplements dated March 14, April 3, and April 23, 2008, provided additional information that clarified the application, did not expand the scope of the application as originally noticed, and did not change the staff's original proposed no significant hazards consideration determination. The Commission's related evaluation of the amendments is contained in a Safety Evaluation dated June 30, 2008.

No significant hazards consideration comments received: No.

Notice of Issuance of Amendment to Facility Operating License and Final No Significant Hazards Consideration Determination

During the period since publication of the last biweekly notice, individual notices of issuance of amendments have been issued for the facilities as listed below. These notices were previously published as separate individual notices. They are repeated here because this biweekly notice lists all amendments that have been issued for which the Commission has made a final determination that an amendment involves no significant hazards consideration.

In this case, a prior Notice of Consideration of Issuance of Amendment, Proposed No Significant Hazards Consideration Determination, and Opportunity for a Hearing was issued, a hearing was requested, and the amendment was issued before any hearing because the Commission made a final determination that the amendment involves no significant hazards consideration.

Details are contained in the individual notice as cited.

Carolina Power & Light Company, Docket No. 50-261, H. B. Robinson Steam Electric Plant, Unit No. 2, Darlington County, South Carolina

Date of application for amendment: November 19, 2007, as supplemented by letter dated February 4, 2008.

Brief description of amendment: The amendment makes administrative revisions to various Operating License (OL) and Technical Specifications (TS) sections. Specifically, the amendment changes OL Section 3.G (1) (secondary water chemistry program requirements), OL Section 3.G (2) (leakage reduction program requirements), TS Section 1.1 (Definitions), TS Section 3.1.7 (Rod Position Indication), TS Section 3.4.3 (RCS Pressure and Temperature (P/T) Limits), TS Section 3.4.9 (Pressurizer), TS Section 3.7.4 (Auxiliary Feedwater (AFW) System), TS Section 5.5.12 (Explosive Gas and Storage Tank Radioactivity Monitoring Program), and TS Section 5.6.6 (Post Accident Monitoring (PAM) Instrumentation Report). The changes are administrative in nature and improve the accuracy and clarity of the TSs and OL without resulting in changes to the plant design or the procedural controls for the operation, surveillance, or maintenance of the plant.

Date of issuance: June 19, 2008.

Effective date: Effective as of the date of issuance and shall be implemented within 30 days.

Amendment No.: 218.

Renewed Facility Operating License No. DPR-23: The amendment revises the Technical Specifications and Facility Operating License.

Date of initial notice in Federal Register: December 31, 2007.

Public comments requested as to proposed no significant hazards consideration (NSHC): No.

The Commission's related evaluation of the amendment is contained in a safety evaluation dated June 19, 2008.

Attorney for licensee: David T. Conley, Associate General Counsel II—Legal Department, Progress Energy Service Company, LLC, Post Office Box 1551, Raleigh, North Carolina 27602-1551.

NRC Branch Chief: Thomas H. Boyce.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action, see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Southern Nuclear Operating Company, Inc., Docket No. 50-425, Vogtle Electric Generating Plant, Unit 2, Burke County, Georgia

Date of amendment request: June 24, 2008, as supplemented by letter dated June 25, 2008.

Description of amendment request: The amendment revises Limiting Condition for Operation (LCO) 3.6.6, “Containment Spray and Cooling Systems,” Action A Completion Time, from 72 hours to a one-time 7 day Completion Time to allow repair on the VEGP Unit 2 Containment Spray Pump B.

Date of issuance: June 25, 2008.

Effective date: June 25, 2008, and shall be implemented on June 25, 2008.

Amendment No.: 131.

Facility Operating License No. (NPF-81): Amendment revised the technical specifications and license.

Public comments requested as to proposed no significant hazards consideration (NSHC): No.

The Commission's related evaluation of the amendment, finding of emergency circumstances, state consultation, and final NSHC determination are contained in a safety evaluation dated June 25, 2008.

Attorney for licensee: Arthur H. Domby, Esquire, Troutman Sanders, Nations Bank Plaza, 600 Peachtree Street, NE., Suite 5200, Atlanta, GA 30308-2216.

NRC Acting Branch Chief: John F. Stang, Acting.

Dated at Rockville, Maryland, this 3rd day July 2008.
For the Nuclear Regulatory Commission.
Timothy J. McGinty,
Acting Director, Division of Operating Reactor Licensing, Office of Nuclear Reactor Regulation.

[FR Doc. E8-15684 Filed 7-14-08; 8:45 am]

BILLING CODE 7590-01-P